DEPARTMENT OF THE INTERIOR

Bureau of Land Management

[CACA 49698, CACA 51204, LLCAD07000, L51010000.FX0000, LVRWB10B3810, LVRWB10B3800]

Notice of Availability of Joint Final Environmental Impact Statement/Final Environmental Impact Report for the Tule Wind Project, California, and Notice of Intent To Segregate Public Lands

AGENCY: Bureau of Land Management, Interior.

ACTION: Notice of availability.

SUMMARY: In accordance with the National Environmental Policy Act of 1969, as amended (NEPA), and the Federal Land Policy and Management Act of 1976, as amended (FLPMA), the Bureau of Land Management (BLM) and the California Public Utilities Commission (CPUC) have prepared a Final Environmental Impact Statement (EIS) and Final Environmental Impact Report (EIR) as a joint environmental analysis document for Tule Wind, LLC's Tule Wind Project (Tule Project) and the San Diego Gas and Electric's (SDG&E) East County Substation Project (ECO Project) and by this notice are announcing the availability of the Final EIS/EIR. By this Notice the BLM is also segregating the public lands within the Tule Project application area from appropriation under the public land laws including the Mining Law, but not the Mineral Leasing or Material Sales Act, for a period of 2 years.

DATES: The BLM will not issue a final decision on the proposal for a minimum of 30 days from the date that the Environmental Protection Agency publishes its notice in the Federal Register. This notice initiates the 2-year segregation period for the public lands within the Tule Project application area, effective as of October 24, 2011. The segregation will terminate as described below (see SUPPLEMENTARY INFORMATION section).

ADDRESSES: Copies of the EIS/EIR are available for public inspection at the BLM El Centro Field Office, 1661 S. 4th Street, El Centro, California 92243, and the BLM California Desert District Office, 22835 Calle San Juan de Los Lagos, Moreno Valley, California 92553. Interested persons may also review the Final EIS/EIR at the following Web site: http://www.ca.blm.gov/elcentro.

FOR FURTHER INFORMATION CONTACT: Greg Thomsen, Project Manager, telephone (951) 697-5237; address BLM California Desert District Office, 22835 Calle San Juan de Los Lagos, Moreno Valley, California 92553-9046; e-mail: catulewind@blm.gov. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: The BLM has received applications for rights-of-way (ROW) for two separate, but related, proposed projects in eastern San Diego County. Tule Wind, LLC (Tule) has submitted an application to construct, operate, maintain, and decommission a 201 megawatt (MW) wind energy generation facility known as the Tule Project. The proposed project site is located on approximately 15,477 acres of land under multiple jurisdictions summarized as follows: Private land—1,040 acres; California State Lands Commission land—619 acres; BLM land—12,200 acres; and Tribal land belonging to the Campo Band of Mission Indians—8 acres for access roads only, the Ewiiaapaayp Band of Kumayaay Indians—1,598 acres, and the Manzanita Band of Mission Indians—12 acres for access roads only. The project site is located in the In-Ko-Pah Mountains near the McCain Valley in San Diego County, north of the unincorporated community of Boulevard. The project will consist of up to 128 wind turbines (1.5 to 3.0 MW each) with a generating capacity of up to 201 MW, an overhead and underground 34.5 kilovolt (kV) collector system leading to a collector substation, an operations and maintenance facility, and a 138 kV transmission line as the generation tie-in to the existing Boulevard Substation.

SDG&E has submitted an application to construct the ECO Project, including a 138 kV transmission line that would traverse approximately 1.5 miles of public land managed by the BLM. The ECO Project includes the construction of a 500/230/138 kV substation on private land near the community of Jacumba, a short loop-in to the Southwest Power Link, the 138 kV transmission line mentioned above, a rebuild of the existing Boulevard Substation, and a rebuild of the existing White Star Communication Facility.

The BLM's purpose and need for the Tule and ECO Projects is to respond to Tule's and SDG&E's respective applications under Title V of FLPMA (43 U.S.C. 1761) for a ROW grant to construct, operate, and decommission an energy generation project and a 138 kV transmission line on public lands in compliance with FLPMA, BLM ROW regulations, and other applicable Federal laws and regulations. The BLM will decide whether to approve, approve with modification, or deny issuance of ROW grants to Tule and SDG&E for the proposed Tule and ECO Projects, respectively. The BLM will take into consideration the provisions of the Energy Policy Act of 2005 and Secretarial Orders 3283 Enhancing Renewable Energy Development on the Public Lands and 3285 Renewable Energy Development by the Department of the Interior in responding to the Tule and SDG&E applications.

The proposed action analyzed in the EIS/EIR is to approve the Tule Project and the ECO Project in response to the applications received from Tule and SDG&E, respectively. The BLM analyzed the following alternatives for the ECO project: The Proposed Action, an Alternative Substation Site, a Partial Undergrounding alternative for the 138 kV Transmission line, the Highway 80 138 kV route alternative, the Highway 80 138 kV undergrounding alternative, and No Action alternatives. The BLM also analyzed the following alternatives for the Tule Wind Project: the Proposed Action, four alternate Gen-tie routes with the substation and the O&M facilities on private lands or public lands, a reduced turbine alternative, and a No Action alternative.

The BLM has used the NEPA process to satisfy the public involvement requirement for Section 106 of the National Historic Preservation Act (16 U.S.C. 470(f)) as provided in 36 CFR 800.2(d)(3). Separately, Native American Tribal consultations are being conducted in accordance with BLM and Department of the Interior policy, and Tribal concerns will be given due consideration, including impacts on Indian trust assets. The BLM has entered into a Memorandum of Understanding (MOU) with the CPUC to conduct a joint environmental review of the Tule/ECO Projects on Federal land managed by the BLM. The CPUC is the lead agency under the California Environmental Quality Act (CEQA), and is responsible for preparing the EIR. Under NEPA, the BLM is the lead agency preparing the EIS. The BLM and CPUC have agreed through the MOU to conduct joint environmental review of the project in a single combined NEPA/CEQA process and document. The Final EIS/EIR is such a document. It evaluates the potential impacts of the proposed Tule and ECO Projects' impacts on air quality, biological resources, cultural resources, water resources, geological resources and hazards, land use, noise, paleontological resources, public health, socioeconomics, soils, traffic and transportation, visual resources, wilderness characteristics, and other resources. A Notice of Intent to Prepare an EIS/EIR for the Tule and ECO Projects in San Diego County, California was published in the Federal Register on December 29, 2009 [74 FR 68860]. The BLM held two public scoping meetings in Jacumba and Boulevard, California, on January 27 and 28, 2010, respectively. The formal scoping period ended on February 15, 2010. A Notice of Availability of the Draft EIS/EIR was published in the Federal Register on December 23, 2010 [75 FR 80807], and the BLM along with the CPUC held two public meetings on the Draft EIS/EIR on January 26, 2011, in Jacumba, and on February 2, 2011, in Boulevard.

In connection with its processing of Tule's application, the BLM is also segregating the public lands within the Project application area for the Tule Project from appropriation under public land laws, including the Mineral Law of 1872, as amended, but not the Mineral Leasing or the Material Sales Acts, for a period of 2 years from the date of publication of this notice. This is done under the authority contained in 43 CFR 2091.3-1(e) and 43 CFR 2804.25(e), and is subject to valid existing rights. The public lands contained within this temporary segregation total approximately 12,200 acres and are described as follows:

San Bernardino Meridian

T. 15 S., R. 6 E.,

Sec. 34; and

Sec. 35.

T. 16 S., R. 6 E.,

Sec. 2, Lot 3 and 4, S½NW¼, SW¼;

Sec. 3;

Sec. 4;

Sec. 9;

Sec. 10;

Sec. 11, S½NE¼, W½, SE¼;

Sec. 12 S½N½, S½;

Sec. 13;

Sec. 14; and

Sec. 15, W½NE¼, W½, S½SE¼.

T. 16 S., R. 7 E.,

Sec. 17, SW¼;

Sec. 18, Lots 2, 3 and 4, E½NE¼, SW¼NE¼, SE¼NW¼, E½SW¼, SE¼;

Sec. 19, Lots 1, 2 and 4, NE¼NE¼, W½E½, E½W½;

Sec. 20, NE¼, E½NW¼, NW¼NW¼, W½SE¼, SE¼SE¼, SE¼SW¼;

Sec. 28, W½SW¼;

Sec. 29, E½, E½NW¼, SW¼NW¼, NE¼SW¼;

Sec. 30, Lot 1, E½NW¼, NW¼NE¼;

Sec. 32, E½, E½W½; and

Sec. 33, W½.

T. 17 S., R. 7 E.,

Sec. 3, Lots 3, 4, S½NW¼, SW¼ ;

Sec. 4, Lots 1, 2, 5, 6, SW¼NE¼, S½NW¼, SW¼, W½SE¼;

Sec. 5, Lots 5, 6, 7, S½NE¼, S½NW¼, E½SW¼, SE¼;

Sec. 8, E½NW¼, SW¼SE¼;

Sec. 9, Lots 4, 5 and 6;

Sec. 10, W½W½;

Sec. 15, NE¼, E½NW¼, NW¼NW¼;

Sec. 17, NW¼NE¼; and

Sec. 21, NE¼, NE¼NW¼.

The areas described above aggregate approximately 12,200 acres of public lands in San Diego County.

The BLM has determined that this temporary segregation is necessary to ensure the orderly administration of the public lands by maintaining the status quo while it processes Tule's ROW application for the above described lands. The temporary segregation period will terminate and the lands will automatically reopen to appropriation under the public land laws, including the Mining Law, if one of the following events occurs: (1) The BLM issues a decision granting, granting with modifications, or denying Tule's ROW authorization request; (2) Publication in the Federal Register of a notice terminating this segregation; or (3) No further administrative action occurs at the end of this segregation. Any segregation made under this authority is effective only for a period of up to 2 years.

Comments on the Draft EIR/EIS received from the public and internal BLM review were considered and incorporated as appropriate into the Final EIR/EIS. Public comments resulted in the addition of clarifying text, but did not significantly change the analysis.

Authority: 40 CFR 1506.6 and 1506.10.

James Keeler,
Acting Deputy State Director, Natural Resources.

[FR Doc. 2011-27514 Filed 10-20-11; 11:15 am]

BILLING CODE 4310-40-P